FEDERAL ACCOUNTING STANDARDS ADVISORY BOARD

Notice of Draft Staff Implementation Guidance, Fiduciary Activities Q&As

Board Action: Pursuant to the Federal Advisory Committee Act (Pub. L. No. 92-463), as amended, and the FASAB Rules of Procedure, as amended in October, 1999, notice is hereby given that the Federal Accounting Standards Advisory Board (FASAB) has issued draft staff implementation guidance, Fiduciary Activities Q&As. The proposed staff implementation guidance would assist agencies in implementing Statement of Federal Financial Accounting Standards 31, Accounting for Fiduciary Activities. The proposed staff implementation guidance is available on the FASAB home page http://www.fasab.gov/exposure.html. Copies can be obtained by contacting FASAB at (202) 512-7350. Respondents are encouraged to comment on any part of the proposal.

Written comments are requested by December 3, 2008, and should be sent via e-mail to fasab@fasab.gov or in hard copy to: Wendy M. Payne, Executive Director, Federal Accounting Standards Advisory Board, 441 G Street, NW., Suite 6814, Mail Stop 6K17V, Washington, DC 20548.

FOR FURTHER INFORMATION, CONTACT: Wendy Payne, Executive Director, FASAB, 441 G Street, NW., Washington, DC 20548, or call (202) 512-7350.

Authority: Federal Advisory Committee Act, Public Law No. 92463.

Dated: November 18, 2008.
Charles Jackson,
Federal Register Liaison Officer.

[FR Doc. E8-27669 Filed 11-21-08; 8:45 am]

BILLING CODE 1610-01-M